DEPARTMENT OF AGRICULTURE

Rural Business-Cooperative Service

Notice of Request for Extension of a Currently Approved Information Collection

AGENCY: Rural Business-Cooperative Service.

ACTION: Proposed collection; comments requested.

SUMMARY: In accordance with the Paperwork Reduction Act of 1995, this notice announces the Rural Business-Cooperative Service's (RBS) intention to request information collection in support of the program for 7 CFR part 1942-G Rural Business Enterprise Grants (RBEG) and Televisions Demonstration Grants.

DATES: Comments on this notice must be received by July 21, 2003 to be assured of consideration.

FOR FURTHER INFORMATION CONTACT: Amy Cavanaugh, Specialty Lenders Division, Rural Business-Cooperative Service, U.S. Department of Agriculture, STOP 3225, 1400 Independence Ave. SW., Washington, DC 20250-3225, Telephone (202) 690-2516.

SUPPLEMENTARY INFORMATION: Title: Rural Business Enterprise Grants and Televisions Demonstration Grants.

OMB Number: 0570-0022.

Expiration Date of Approval: October 31, 2003.

Type of Request: Extension of a currently approved information collection.

Abstract: The objective of the RBEG program is to facilitate the development of small and emerging private businesses in rural areas. This purpose is achieved through grants made by RBS to public bodies and nonprofit corporations. Television Demonstration grants are available to private, nonprofit, public television systems to provide information on agriculture and other issues of importance to farmers and rural residents. The regulation contains various requirements for information from the grantees, and some requirements may cause the grantees to require information from other parties. The information requested is vital for RBS to be able to process applications in a responsible manner, make prudent program decisions, and effectively monitor the grantees' activities to protect the Government's financial interest and ensure that funds obtained from the Government are used appropriately. It includes information to determine eligibility, the specific purpose for which grant funds will be used, timeframes, who will be carrying out the grant purposes, project priority, applicant experience, employment improvement, and mitigation of economic distress.

Estimate of Burden: Public reporting burden for this collection of information is estimated to average 2.5 hours per response.

Respondents: Nonprofit corporations and public bodies.

Estimated Number of Respondents: 720.

Estimated Number of Responses per Respondent: 12.

Estimated Number of Responses: 8,660.

Estimated Total Annual Burden on Respondents: 22,395.

Copies of this information collection can be obtained from Cheryl Thompson, Regulations and Paperwork Management Branch, at (202) 692-0043.

Comments

Comments are invited on: (a) Whether the proposed collection of information is necessary for the proper performance of the functions of RBS, including whether the information will have practical utility; (b) the accuracy of the RBS estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. Comments may be sent to Cheryl Thompson, Regulations and Paperwork Management Branch, U.S. Department of Agriculture, Rural Development, STOP 0742, 1400 Independence Ave. SW., Washington, DC 20250. All responses to this notice will be summarized and included in the request for Office of Management and Budget approval. All comments will also become a matter of public record.

Dated: May 12, 2003.
John Rosso,
Administrator, Rural Business-Cooperative Service.

[FR Doc. 03-12760 Filed 5-20-03; 8:45 am]

BILLING CODE 3410-15-P